ENVIRONMENTAL PROTECTION AGENCY

40 CFR Part 52

[EPA-R04-OAR-2017-0021; FRL-9965-25-Region 4]

Air Plan Approval; Georgia; Miscellaneous Revisions

AGENCY: Environmental Protection Agency (EPA).

ACTION: Direct final rule.

SUMMARY: The Environmental Protection Agency (EPA) is taking direct final action to approve portions of State Implementation Plan (SIP) revisions submitted by the State of Georgia, through the Georgia Department of Natural Resources' Environmental Protection Division (GA EPD), on November 29, 2010, and July 25, 2014. These changes correct a numbering error, clarify rule applicability and remove obsolete tables and references in multiple rules. EPA is approving portions of these SIP revisions because the State has demonstrated that they are consistent with the Clean Air Act (CAA or Act).

DATES: This direct final rule is effective September 26, 2017 without further notice, unless EPA receives adverse comment by August 28, 2017. If EPA receives such comments, it will publish a timely withdrawal of the direct final rule in the Federal Register and inform the public that the rule will not take effect.

ADDRESSES: Submit your comments, identified by Docket ID No. EPA-R04-OAR-2017-0021 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Richard Wong, Air Regulatory Management Section, Air Planning and Implementation Branch, Air, Pesticides and Toxics Management Division, U.S. Environmental Protection Agency, Region 4, 61 Forsyth Street SW., Atlanta, Georgia 30303-8960. The telephone number is (404) 562-8726. Mr. Wong can also be reached via electronic mail at wong.richard@epa.gov.

SUPPLEMENTARY INFORMATION:

I. Background

On November 29, 2010, and July 25, 2014, GA EPD submitted revisions to EPA for review and approval into the Georgia SIP that contain changes to a number of Georgia's air quality rules in Rule 391-3-1. The changes that EPA is approving into the SIP modify Rule 391-3-1-.01, “Definitions,” and Rule 391-3-1-.02, “Provisions.” The changes requested by Georgia in these proposed SIP revisions are discussed below.

The November 29, 2010, submittal includes a change to Rule 391-3-1-.01(nnnn), “Procedures for Testing and Monitoring Sources of Air Pollutants.” EPA approved this change on January 5, 2017 (82 FR 1206). EPA is not acting on changes to Rule 391-3-1-.02(2)(sss), “Multipollutant Control for Electric Utility Steam Generating Units” and Rule 391-3-1-.14—“General Conformity” included in the November 29, 2010, submittal because the rules are not part of the SIP and the State's prior request to incorporate the rule into the SIP was withdrawn from EPA consideration by the State in a letter dated December 1, 2016.¹

¹ The December 1, 2016 letter is included in the docket for this action.

The July 25, 2014, submittal includes several changes that are not part of this action. Rule 391-3-1-.01(llll), “Volatile organic compound,” was approved on October 5, 2016, (81 FR 68936) and Rule 391-3-1-.01(nnnn), “Procedures for Testing and Monitoring Sources of Air Pollutants,” was approved on January 5, 2017, (82 FR 1206). With respect to GA EPD's submission related to Rule 391-3-1-.02(4), “Ambient Air Standards,” and Rule 391-3-1-.03(8), “Permit Requirements,” EPA will act on these changes in a separate action.

II. Analysis of State's Submittal

A. November 29, 2010 Submittal

Georgia's November 29, 2010, submittal makes only one administrative edit to Rule 391-3-1-.02(2)(ss), “Gasoline Transport Vehicles and Vapor Collection Systems.” Specifically, the submittal fixes a numbering error at Rule 391-3-1.02(2)(ss)(5) by revising the citation for a provision defining the term “Vapor Control System” from “iv” to “vi.” EPA is approving this administrative change to Rule 391-3-1-.02(2)(ss) into the SIP. This change became state effective on October 6, 2010.

B. July 25, 2014 Submittal

Georgia's July 25, 2014, submission makes multiple changes to Rule 391-3-1-.02.

GA EPD revises two sections in Rule 391-3-1-.02(2)(a), “General Provisions.” The first change adds a subparagraph at Rule 391-3-1-.02(2)(a)6.(i)(VI), which clarifies applicability requirements for certain volatile organic compound (VOC) emission standards. This change clarifies that, when calculating emissions for purposes of an applicability determination for each standard, the source should only include emissions from units belonging to the source category to which the standard would apply.

The second change removes a paragraph at Rule 391-3-1.02(2)(a)9., titled Kraft Pulp Mill Total Reduced Sulfur (TRS) Compliance Schedules. Kraft Pulp Mill sources were required to comply with the TRS Compliance Schedule no later than 43 months after the September 1, 1988, notification date. New sources after April 1, 1992, have to be in compliance upon start-up. The July 25, 2014, SIP submittal deletes paragraph 9 because sources have met the TRS compliance schedule, so the provision is obsolete. Additionally, Georgia makes an administrative change to Rule 391-3-1-.02 (2)(gg), “Kraft Pulp Mills,” by removing reference to the approval of the TRS Compliance Schedule in subparagraph 2(i)(V).

Rule 391-3-1-.02(2)(e), “Particulate Emission from Manufacturing Processes,” establishes allowable particulate matter emission limits for sources that are not subject to another rule or permit condition. The rule currently provides equations to calculate allowable emission rates based on process input weight rate for new and existing equipment. In addition, two tables, Ia and Ib, also provide the allowable emissions rates. Georgia is removing these two tables since the equations in the rule serve the same purpose, and as such this change is administrative in nature.

Rule 391-3-1-.02(2)(l), “Conical Burners.” This rule was first incorporated in the SIP to address the use of conical burners for wood waste burning. These burners gradually went out of service and are no longer in operation in Georgia. The July 25, 2014, SIP submittal removes the regulation for conical burners as it is no longer applicable and is obsolete. Moreover, if a source were to begin operating in Georgia in the future, it would be subject to new source review, as well as the new source performance standards and emission guidelines for commercial and industrial solid waste incineration units in 40 Code of Federal Regulations (CFR) Part 60 Subparts CCCC and DDDD, thus ensuring that the source would not interfere with any applicable requirement under the CAA.

Rule 391-3-1-.02(2)(o), “Cupola Furnaces for Metallurgical Melting.” This rule was first incorporated in the SIP to address particulate emissions from foundries. These sources are no longer operating in Georgia. This change removes the regulation for cupola furnaces for metallurgical melting as it is no longer applicable and is obsolete. Moreover, if a source were to begin operating in the future, it would be subject to new source review, as well as 40 CFR part 63 Subpart EEEEE or ZZZZZ, thus ensuring that the source would not interfere with any applicable requirement under the CAA.

Rule 391-3-1-.02(2)(p), “Particulate Emissions from Kaolin and Fuller's Earth Processes.” This rule was first incorporated in the SIP to establish allowable particulate emission limits from clay processing operations. The rule currently provides equations to calculate allowable emission rates based on process input weight rate for new and existing equipment. In addition, two tables, IIa and IIb, also provide the allowable emissions rates. Georgia is removing these two tables since the equations in the rule serve the same purpose, and as such this change is administrative in nature.

Rule 391-3-1-.02(2)(q), “Particulate Emissions from Cotton Gins.” This rule was first incorporated in the SIP to address particulate emissions from cotton ginning operations. The rule currently provides an equation to calculate allowable emission rates based on number of standard bales per hour. In addition, table IIIa also provides the allowable emissions rates. Georgia is removing this table since the equation in the rule serves the same purpose, and as such this change is administrative in nature.

Rule 391-3-1-.02(6)(a), “Specific Monitoring and Reporting Requirements for Particular Sources.” This rule was first incorporated in the SIP on September 18, 1979 (44 FR 54047), to address sources subject to any of the Standards of Performance for New Stationary Sources of or pursuant to 42 U.S.C. 7411, as amended, or National Emission Standards for Hazardous Air Pollutants of or pursuant to 42 U.S.C. 7412. Sources subject to the rule were required to install monitoring equipment and begin monitoring within 18 months of the 1979 rulemaking. After the implementation period, new sources must be in compliance with monitoring requirements upon startup. Georgia is removing subparagraph 391-3-1-.02(6)(a)(2)(x), as the implementation period has passed and is now obsolete.

EPA is approving the aforementioned changes from the July 25, 2014, submittal into the SIP because the rules are consistent with CAA section 110. These changes became state effective on August 1, 2013.

III. Incorporation by Reference

In this rule, EPA is finalizing regulatory text that includes incorporation by reference. In accordance with requirements of 1 CFR 51.5, EPA is finalizing the incorporation by reference of Georgia Rule 391-3-1-.02(2)(ss), “Gasoline Transport Vehicles and Vapor Collection Systems,” effective October 6, 2010, and Rule 391-3-1-.02(2)(a), “General Provisions,” Rule 391-3-1-.02(2)(e), “Particulate Emission from Cotton Gins,” Rule 391-3-1-.02(2)(p), “Particulate Emissions from Kaolin and Fuller's Earth Processes,” Rule 391-3-1-.02(2)(q), “Particulate Emissions from Cotton Gins,” Rule 391-3-1-.02 (2)(gg), “Kraft Pulp Mills, ” and Rule 391-3-1-.02(6) ”Specific Monitoring,” effective August 1, 2013. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.² EPA has made, and will continue to make, these materials generally available through www.regulations.gov and/or at the EPA Region 4 Office (please contact the person identified in the For Further Information Contact section of this preamble for more information).

² 62 FR 27968 (May 22, 1997).

IV. Final Action

EPA is approving the aforementioned changes to the SIP because they are consistent with the CFR and the CAA. EPA is publishing this rule without prior proposal because the Agency views this as a noncontroversial submittal and anticipates no adverse comments. However, in the proposed rules section of this Federal Register publication, EPA is publishing a separate document that will serve as the proposal to approve the SIP revision should adverse comments be filed. This rule will be effective September 26, 2017 without further notice unless the Agency receives adverse comments by August 28, 2017.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on September 26, 2017 and no further action will be taken on the proposed rule. Please note that if we receive adverse comment on an amendment, paragraph, or section of this rule and if that provision may be severed from the remainder of the rule, we may adopt as final those provisions of the rule that are not the subject of an adverse comment.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, these actions merely approve state law as meeting federal requirements and do not impose additional requirements beyond those imposed by state law. For that reason, these actions:

• Are not significant regulatory actions subject to review by the Office of Management and Budget under Executive Orders 12866 (58 FR 51735, October 4, 1993) and 13563 (76 FR 3821, January 21, 2011);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not economically significant regulatory actions based on health or safety risks subject to Executive Order 13045 (62 FR 19885, April 23, 1997);

• are not significant regulatory actions subject to Executive Order 13211 (66 FR 28355, May 22, 2001);

• are not subject to requirements of Section 12(d) of the National Technology Transfer and Advancement Act of 1995 (15 U.S.C. 272 note) because application of those requirements would be inconsistent with the CAA; and

• do not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 26, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 12, 2017.
V. Anne Heard,
Acting Regional Administrator, Region 4.

40 CFR part 52 is amended as follows:

PART 52—[APPROVAL AND PROMULGATION OF IMPLEMENTATION PLANS]

1. The authority citation for part 52 continues to read as follows:

Authority: 42 U.S.C. 7401 et seq.

Subpart L—Georgia

2. Section 52.570(c) is amended by:

(A) Removing the entries for “391-3-1-.02(2)(l),” and “391-3-1-.02(2)(o).”

(B) Revising the entries for “391-3-1-.02(2)(a),” “391-3-1-.02(2)(e),” “391-3-1-.02(2)(p),” “391-3-1-.02(2)(q),” “391-3-1-.02(2)(gg),” “391-3-1-.02(2)(ss),” and “391-3-1-.02(6)” to read as follows:

§ 52.570 Identification of plan.

* * * * *

(c) * * *

EPA Approved Georgia Regulations
State citation | Title/subject | State effective date | EPA approval date | Explanation
* * * * * * *
391-3-1-.02(2)(a) | General Provisions | 8/1/2013 | 7/28/2017, [Insert citation of publication] | Except for paragraph 391-3-1-.02(2)(a)1 (as approved on 3/16/06).
* * * * * * *
391-3-1-.02(2)(e) | Particulate Emission from Manufacturing Processes | 8/1/2013 | 7/28/2017, [Insert citation of publication] |
* * * * * * *
391-3-1-.02(2)(p) | Particulate Emissions from Kaolin and Fuller's Earth Processes | 8/1/2013 | 7/28/2017, [Insert citation of publication] |
391-3-1-.02(2)(q) | Particulate Emissions from Cotton Gins | 8/1/2013 | 7/28/2017, [Insert citation of publication] |
* * * * * * *
391-3-1-.02(2)(gg) | Kraft Pulp Mills | 8/1/2013 | 7/28/2017, [Insert citation of publication] |
* * * * * * *
391-3-1-.02(2)(ss) | Gasoline Transport Systems and Vapor Collection Systems | 10/6/2010 | 7/28/2017, [Insert citation of publication] |
* * * * * * *
391-3-1-.02(6) | Source Monitoring | 8/1/2013 | 7/28/2017, [Insert citation of publication] |
* * * * * * *

* * * * *

[FR Doc. 2017-15737 Filed 7-27-17; 8:45 am]

BILLING CODE 6560-50-P